DEPARTMENT OF COMMERCE

International Trade Administration

[C-507-501; C-507-601]

Certain In-Shell Pistachios (C-507-501) and Certain Roasted In-Shell Pistachios (C-507-601) From the Islamic Republic of Iran: Extension of Time Limit for Final Results of Countervailing Duty New Shipper Reviews

AGENCY: Import Administration, International Trade Administration, Department of Commerce.

ACTION: Extension of time limit for final results of countervailing duty new shipper reviews.

EFFECTIVE DATE: October 23, 2002.

FOR FURTHER INFORMATION CONTACT: Eric B. Greynolds or Darla Brown, AD/CVD Enforcement, Office VI, Group II, Import Administration, U.S. Department of Commerce, Room 4012, 14th Street and Constitution Avenue, NW., Washington, DC 20230; telephone (202) 482-2786.

Statutory Time Limits

Section 751(a)(2)(B)(iv) of the Tariff Act of 1930, as amended (the Act), requires the Department of Commerce (the Department) to issue preliminary results within 180 days after the date on which the review was initiated and final results within 90 days after the date on which the preliminary results are issued. However, if the Secretary determines the case is extraordinarily complicated, section 751(a)(2)(B)(iv) of the Act allows the Department to extend the time limit for the preliminary results of new shipper reviews to a maximum of 300 days and for the final results to 150 days from the date of issuance of the preliminary results.

Background

On November 7, 2001, we published in the Federal Register the initiation of a new shipper review of the countervailing duty order on in-shell pistachios from the Islamic Republic of Iran (Iran), covering the period October 1, 2000, through September 30, 2001. See 66 FR 56277. On November 27, 2001, we published in the Federal Register the initiation of a new shipper on roasted in-shell pistachios from Iran covering the same period. See 66 FR 59235. On September 4, 2002, (67 FR 56534), we published the preliminary results for the in-shell and roasted in-shell new shipper reviews.

Extension of Final Results of Review

Upon further review of the information submitted on the record of these new shipper reviews, we have concluded that it is necessary to conduct a verification of the questionnaire responses. Given our decision to conduct verification, we have determined these cases are extraordinarily complicated. Therefore, the Department is extending the time limits for completion of the final results until no later than January 24, 2002. See the Decision Memorandum from Melissa G. Skinner, Director, Office of AD/CVD Enforcement VI, to Bernard T. Carreau, Deputy Assistant Secretary, Import Administration, dated concurrent with this notice, which is on file in the Central Records Unit.

This extension is in accordance with section 751(a)(2)(B)(iv) of the Act.

Dated: October 16, 2002.
Bernard T. Carreau,
Deputy Assistant Secretary for Import Administration.

[FR Doc. 02-27011 Filed 10-22-02; 8:45 am]

BILLING CODE 3510-DS-P